DEPARTMENT OF LABOR

Employment and Training Administration

TA-W-65,829, Sierra Pacific Industries, Camino Division, Camino, CA; TA-W-65,829A, Sierra Pacific Industries, Sonora Division, Sonora, CA; TA-W-65,829B, Sierra Pacific Industries, Quincy Division, Quincy, CA; Notice of Termination of Investigation

In accordance with Section 221 of the Trade Act of 1974, as amended, an investigation was initiated on April 15, 2009, in response to a petition filed on behalf of workers of Sierra Pacific Industries, Camino Division, Camino, California; Sierra Pacific Industries, Sonora Division, Sonora, California; and Sierra Pacific Industries, Quincy Division, Quincy, California.

The petitioner has requested that the petitions be withdrawn. Consequently, the investigation has been terminated.

Signed in Washington, DC, this 1st day of May 2009.
Richard Church,
Certifying Officer, Division of Trade Adjustment Assistance.

[FR Doc. E9-13454 Filed 6-8-09; 8:45 am]

BILLING CODE 4510-FN-P